LIBRARY OF CONGRESS

Copyright Royalty Board

[Docket No. 16-CRB-0013-DART-MWF (2012-2013)]

Distribution of the 2012-2013 Digital Audio Recording Technology Musical Works Royalty Funds

AGENCY: Copyright Royalty Board, Library of Congress.

ACTION: Notice soliciting comments on motion for partial distribution.

SUMMARY: The Copyright Royalty Judges solicit comments on a motion for partial distribution in connection with 2012 and 2013 DART Musical Works Fund royalties.

DATES: Comments are due on or before June 16, 2016.

ADDRESSES: This notice and request for comments is also posted on the agency's Web site (www.loc.gov/crb). Submit electronic comments to crb@loc.gov. See the Supplementary Information section below for instructions on submitting comments in other formats.

FOR FURTHER INFORMATION CONTACT: Kimberly Whittle, attorney-advisor, by telephone at (202) 707-7658 or email at crb@loc.gov.

SUPPLEMENTARY INFORMATION: On April 3, 2016, Broadcast Music, Inc. (BMI), the American Society of Composers, Authors and Publishers (ASCAP), SESAC, Inc. (SESAC) (together the Performing Rights Organizations or PROs) and The Harry Fox Agency LLC (with the PROs, the Settling Claimants) filed with the Copyright Royalty Judges (Judges) a Motion for Partial Distribution of the Musical Works Fund . . . (Motion). In the Motion, the Settling Claimants asserted that they have reached a confidential settlement among themselves concerning the distribution shares of the 2012 and 2013 DART Musical Works Fund royalties.

The Settling Claimants contend that they are, or they represent, “the vast majority” of claimants entitled to the Musical Works Fund royalties at issue in this proceeding. As support for their request, the Settling Claimants assert that, since 1997, non-settling music writer or publisher claimants have established claims to and have received less than 0.1% of the Musical Works Fund, if any. The Settling Claimants request a partial distribution of 95% of the subject royalty funds pursuant to Section 801(b)(3)(C) of the Copyright Act (Act).

Under section 801(b)(3)(C) of the Act, before ruling on a partial distribution motion the Judges must publish a notice in the Federal Register to ascertain whether any claimant entitled to receive a share of the subject royalty fees has a reasonable objection to the proposed distribution. Consequently, this Notice seeks comments from interested claimants on whether any reasonable objection exists that would preclude distribution of 95% of the 2012 and 2013 DART Musical Works Fund royalties to the Settling Claimants. Any party wishing to advise the judges of the existence and extent of an objection must do so, in writing, by the end of the comment period. The judges will not consider any objections with respect to the partial distribution motion that come to their attention after the close of that period.

How To Submit Comments

Interested claimants must submit comments to only one of the following addresses. Unless responding by email, claimants must submit an original, five paper copies, and an electronic version on a CD.

Email: crb@loc.gov; or

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE., and D Street NE., Washington, DC; or

Hand delivery: Library of Congress, James Madison Memorial Building, LM-401, 101 Independence Avenue SE., Washington, DC 20559-6000.

Dated: May 11, 2016.
Suzanne M. Barnett,
Chief U.S. Copyright Royalty Judge.

[FR Doc. 2016-11561 Filed 5-16-16; 8:45 am]

BILLING CODE 1410-72-P